DEPARTMENT OF HEALTH AND HUMAN SERVICES

Administration for Children and Families

Statement of Organization, Functions and Delegation of Authority

Notice is hereby given that I have delegated to the Director, Office of Refugee Resettlement, with the authority to further re-delegate, the following authority delegated to the Assistant Secretary for Children and Families by the Secretary of the Department of Health and Human Services on April 30, 2004.

(a) Authority Delegated.

Authority to conduct public awareness and information activities under the Trafficking Victims Protection Act of 2000 (TVPA), Public Law 106-386, section 106(b), 22 U.S.C. 7104(b).

(b) Limitations and Conditions.

1. This delegation shall be exercised under the Department's existing delegation of authority and policy on regulations.

2. This delegation shall be exercised under financial and administrative requirements applicable to all Administration for Children and Families' authorities.

3. The Director of the Anti-Trafficking in Persons Division must report to the Director, Office of Refugee Resettlement, and the Director, Office of Refugee Resettlement, must report to the Assistant Secretary prior to carrying out public awareness and information activities.

(c) Effective Date.

This delegation is effective upon date of signature.

(d) Effect on Existing Delegations.

None.

In addition, I have affirmed and ratified any actions taken by the Director, Office of Refugee Resettlement, which involved the exercise of this authority prior to the effective date of this delegation.

Dated: January 11, 2008.
Daniel C. Schneider,
Acting Assistant Secretary for Children and Families.

[FR Doc. E8-1479 Filed 1-28-08; 8:45 am]

BILLING CODE 4184-01-P